DEPARTMENT OF COMMERCE

United States Patent and Trademark Office

37 CFR Part 1

[Docket No.: PTO-P-2014-0043]

Request for Comments on Enhancing Patent Quality

AGENCY: United States Patent and Trademark Office, Commerce.

ACTION: Request for comments; notice of meeting.

SUMMARY: The United States Patent and Trademark Office (USPTO) is seeking public input and guidance to direct its continued efforts towards enhancing patent quality. These efforts focus on improving patent operations and procedures to provide the best possible work products, to enhance the customer experience, and to improve existing quality metrics. In pursuit of these goals, the USPTO is launching a comprehensive and enhanced quality initiative. This initiative begins with a request for public comments on the set of proposals outlined in this document and will continue with a two-day “Quality Summit” with the public to discuss the outlined proposals. The conversation with the public held at this Quality Summit, complemented by written comments to these proposals, is the first of many steps toward developing a new paradigm of patent quality at the USPTO. Through an active and long-term partnership with the public, the USPTO seeks to ensure the issuance of the best quality patents and provide the best customer service possible.

DATES: Comment Deadline Date: To be ensured of consideration, written comments must be received on or before May 6, 2015.

The USPTO will hold a Quality Summit on March 25 and 26, 2015 at the Madison Building, USPTO Headquarters, in Alexandria, Virginia. This Summit will be broadcast via webinar and recorded for later viewing. For webinar participants, participation in all Summit sessions, including the group brainstorming sessions, will be possible. See the Supplementary Information section for the proposed agenda. In order to best prepare for the Quality Summit, the USPTO requests that those interested in attending the Quality Summit send an email to WorldClassPatentQuality@uspto.gov indicating their planned attendance by March 18, 2015.

ADDRESSES: Written comments should be sent by electronic mail message over the Internet addressed to: WorldClassPatentQuality@uspto.gov. Comments may also be submitted by postal mail addressed to: Mail Stop Comments—Patents, Commissioner for Patents, P.O. Box 1450, Alexandria, Virginia 22313-1450, marked to the attention of Michael Cygan, Senior Legal Advisor, Office of Patent Legal Administration, Office of the Deputy Commissioner for Patent Examination Policy.

Although comments may be submitted by postal mail, the USPTO prefers to receive comments by electronic mail message over the Internet because sharing comments with the public is more easily accomplished. Electronic comments are preferred to be submitted in plain text, but also may be submitted in ADOBE® portable document format or MICROSOFT WORD® format. Comments not submitted electronically should be submitted on paper in a format that facilitates convenient digital scanning into ADOBE® portable document format.

The comments will be available for public inspection at the Office of the Commissioner for Patents, currently located in Madison East, Tenth Floor, 600 Dulany Street, Alexandria, Virginia. Comments also will be available for viewing via the USPTO's Internet Web site (http://www.uspto.gov/patents/init_events/Patent-Quality-Initiative.jsp). Because comments will be made available for public inspection, information that the submitter does not desire to make public, such as an address or phone number, should not be included in the comments. It would be helpful to the USPTO if written comments included information about: (1) the name and affiliation of the individual responding; and (2) an indication of whether comments offered represent views of the respondent's organization or are the respondent's personal views.

FOR FURTHER INFORMATION CONTACT: Michael T. Cygan, Senior Legal Advisor, at (571) 272-7700; Maria Nuzzolillo, Legal Advisor, at (571) 272-8150; or Jeffrey R. West, Legal Advisor, at (571) 272-2226.

SUPPLEMENTARY INFORMATION:

Background

The innovation that is fostered by a strong patent system is a key driver of economic growth and job creation. Effectively promoting such innovation requires that issued patents fully comply with all statutory requirements and, of equal importance, that the patent examination process advance quickly, transparently, and accurately. The USPTO has taken steps to provide clear and consistent enforcement of its statutory examination mandates. For instance, the USPTO has released new training for examiners in the area of functional claiming, guidance on subject matter eligibility of claims, and an improved classification system for searching prior art. Additionally, the USPTO has begun to implement long-range plans to improve its operational capabilities, such as upgrading IT tools for its patent examiners through the Patents End-to-End program and expanding international work-sharing capabilities, all of which will help improve the quality of issued patents.

Presently, the USPTO is launching a new, wide-ranging initiative to enhance the quality of patents issued by the USPTO. High quality patents permit certainty and clarity of rights, which in turn fuels innovation and reduces needless litigation. Moreover and importantly, for the first time in recent history, the USPTO has the financial resources to consider longer-term and more expensive improvements to patent quality by leveraging the sustainable funding model provided by the fee setting provisions in the America Invents Act. The USPTO also has made steady progress in reducing both the backlog of unexamined patent application and patent pendency. The current backlog of unexamined patent applications has dropped from a high of more than 764,000 in January 2009 to presently less than 605,000. Similarly, the pendency from filing to a disposition has dropped from a high of 34.5 months in August 2010 to currently 27.0 months. While the agency still has progress to make in further reducing both the backlog and pendency, the confluence of these events make it the optimal time for the USPTO to pursue this enhanced quality initiative.

Herein, the USPTO presents its approach to partnering with the public in enhancing patent quality. Specifically, the USPTO is setting forth its ongoing efforts to address quality and is announcing a variety of proposals designed to further enhance patent quality. Additionally, the USPTO is announcing a Quality Summit to dialogue with the public about its new enhanced quality initiative and is seeking written comments about the same.

The USPTO intends for this request for comments and the Quality Summit to be the first of many conversations and collaborations with the public as the USPTO continues to enhance patent quality. Through this document, the USPTO presents various questions about its new enhanced quality initiative and proposals. The purpose of these questions is to stimulate the public's thinking on the larger topic of patent quality, as well as focus discussion at the Quality Summit on a limited number of concrete proposals. The public's response to these questions will guide the agency in formulating, prioritizing, and implementing changes to enhancing patent quality. Accordingly, the USPTO welcomes the public's views on both the specific questions included in the Notice and any other issues that the public's believes to be important to patent quality. To communicate about events and actions related to the enhanced patent quality initiative, the USPTO is introducing a Web site: http://www.uspto.gov/patents/init_events/Patent-Quality-Initiative.jsp.

Lastly, the USPTO has held internal focus sessions with USPTO employees, including patent examiners, to engage in discussions on how to enhance quality at every step of prosecution. These internal discussions will continue in parallel with the discussions being held with the public through written comments to this document and in-person at the Quality Summit. Engaging in a dialogue with examiners to receive input from those who are responsible for the crucial day-to-day work of examining applications and issuing high quality patents is essential to initiating and sustaining the success of our quality enhancing efforts.

Patent Quality Pillars

As the USPTO commences its enhanced patent quality initiative, the USPTO is targeting three aspects of patent quality, termed the “patent quality pillars.” These pillars are:

(1) Excellence in work products, in the form of issued patents and Office actions;

(2) excellence in measuring patent quality, including appropriate quality metrics; and

(3) excellence in customer service.

As the first pillar, the USPTO is focusing on the quality of the work products provided at every stage of the patent process. This pillar includes both the quality of issued patents and the quality of all work products during the filing, examination, and issuance process. The USPTO is committed to issuing patents that clearly define the scope of the rights therein, that are within the bounds of the patent statutes as interpreted by the judiciary, and that provide certainty as to their validity to encourage investment in research, development, and commercialization.

The USPTO is committed to issuing patents that clearly define the scope of the rights therein, that are within the bounds of the patent statues as interpreted by the judiciary, and that provide certainty as to their validity to encourage investment in research, development, and commercialization. The USPTO recognizes that examiners are the fundamental resource essential to building and strengthening the first pillar. Examiners are the key building block to the infrastructure and foundation needed to enhance and sustain quality. The USPTO is committed to taking the steps necessary to evaluate the needs of examiners to ensure that they have the tools, resources, and training required to perform their jobs optimally and to provide a superior work product.

Regarding the second pillar, the USPTO is focusing on its measurement of quality to evaluate work products and customer interactions. The USPTO welcomes the public's input on its measurement of patent quality and how it may be improved.

Turning to the third pillar, the USPTO is focusing on the quality of the customer experience. The USPTO seeks feedback to ensure that customers are treated promptly, fairly, consistently, and professionally at all stages of the examination process. The USPTO also is focused on maximizing the effectiveness and professionalism of all customer interactions, be it through examiner interviews, official USPTO communications, or call center exchanges.

In moving forward with the enhanced quality initiative framed by these three pillars, the USPTO seeks to deepen and refine its thinking about general aspects of quality. To that end, the USPTO welcomes feedback about the following questions that the public may wish to address via written comments or at the Quality Summit. Moreover, the USPTO solicits any other input outside of these questions that the public believes can lead to the issuance of higher quality patents.

• Are there aspects of enhanced quality other than the three “pillars” previously described that should guide the USPTO's enhanced quality initiative?

• Are there any new or necessary changes to existing procedures that the USPTO should consider to improve the efficiency and effectiveness of the examination process?

• What should be included at the time of application filing in order to enhance patent quality?

• While specific questions have been provided to initiate the discussion on patent quality, the USPTO solicits any other input outside of these questions that the public believes can lead to the issuance of higher quality patents.

Existing Quality Efforts

The USPTO has several ongoing efforts to improve the quality of issued patents under the three patent quality pillars. The following non-exhaustive list describes some of the recent initiatives that the USPTO has undertaken to improve overall quality.

First, the USPTO has taken steps to provide more robust training to examiners. In furtherance of a White House Executive Action designed to keep examiners' technical knowledge current with the rapid advancements in the state of the art, the USPTO initiated the Patent Examiner Technical Training Program. Through this program, scientists, engineers, professors, and industrial designers may volunteer to participate as guest lecturers to examiners in their field of art. More information on this program can be found at http://www.uspto.gov/patents/pettp.jsp. Additionally, the USPTO has adopted, and trained all examiners on, the Cooperative Patent Classification (CPC) system. The CPC is a multi-office classification system developed by the USPTO and the European Patent Office to not only enhance the examiner's ability to locate the most relevant art as efficiently as possible, but also to enable work sharing with other patent offices around the globe.

Second, as part of its ongoing commitment to legal training, the USPTO has developed training modules on claim clarity and functional claiming and is in the midst of training all examiners on those modules. These modules, which have been developed in furtherance of a White House Executive Action on clarity in patent claims, focus on evaluating functional claiming and improving the clarity of the examination record. More information, including four training modules provided to examiners on functional claiming, may be found at http://www.uspto.gov/patents/init_events/executive_actions.jsp#heading-2. Additionally, the USPTO routinely provides legal training as the law changes due to new legislation and case law developments. For example, the USPTO has offered extensive training on the new provisions of the America Invents Acts, as well as on subject matter eligibility in view of recent judicial rulings. More information about these trainings may be found respectively at http://www.uspto.gov/aia_implementation/index.jsp and http://www.uspto.gov/patents/law/exam/interim_guidance_subject_matter_eligibility.jsp.

Third, as a further initiative to enhance clarity in patent claims, the USPTO has launched a voluntary glossary pilot program. This pilot program provides a framework for applicants in certain fields of art to include definitions of key claim terms within the patent specification in exchange for expedited examination through a first Office action. More information about this pilot may be found at http://www.uspto.gov/patents/init_events/glossary_initiative.jsp.

Fourth, the USPTO is engaged in pilot programs such as the Quick Path IDS Program (QPIDS) and the After Final Consideration Pilot (AFCP). Each of these programs serve to reduce pendency and improve quality by more expeditiously identifying and resolving those issues preventing the grant of a high-quality patent. Specifically, the QPIDS pilot permits an examiner to consider an Information Disclosure Statement after payment of the issue fee without the need to reopen prosecution, effectively obviating the need to pursue a Request for Continued Examination. The AFCP program allows applicants to submit an amendment after final action for consideration by the examiner without reopening prosecution. For more information on these pilot programs, see respectively http://www.uspto.gov/patents/init_events/qpids.jsp and http://www.uspto.gov/patents/init_events/afcp.jsp.

Fifth, the USPTO has implemented programs to take advantage of the search and examination work done in corresponding applications filed in other intellectual property offices through a variety of international cooperation efforts, for example, the Patent Prosecution Highway (PPH) program and the Common Citation Document program (CCD). The PPH enables the USPTO to leverage fast-track examination procedures already in place among participating foreign patent offices to allow applicants to reach final disposition of a patent application more quickly and efficiently than standard examination processing. The CCD program consolidates the prior art cited by the five largest intellectual property offices of the world (i.e., USPTO, EPO, JPO, KIPO, and SIPO) for the family members of a patent application, thus enabling the search results for the same invention produced by several offices to be visualized on a single page. The CCD therefore enables USPTO examiners to have a single point of access to up-to-date prior art information. For more information, see respectively http://www.uspto.gov/patents/init_events/pph/index.jsp and http://www.uspto.gov/patents/process/search/index.jsp?tag=infraredheatersconsumerreports-20#heading-8.

Sixth, the USPTO has actively promoted interviews between applicants and examiners throughout prosecution, including through specific initiatives such as the First Action Interview Pilot Program. Under this particular pilot, applicants are permitted to conduct an interview with the examiner after reviewing a “Pre-Interview Communication” from the examiner containing the results of a prior art search conducted by the examiner. Through this interaction, the examiner and the applicant are in a position to rapidly advance prosecution of the application by resolving certain patentability issues at the beginning of the prosecution process with the goal of early allowance, when appropriate. For further details about the pilot, see http://www.uspto.gov/patents/init_events/faipp_landing.jsp.

Seventh, the USPTO continues to expand its assistance to independent inventors through educational programs hosted by the Office of the Innovation Development, as well as through the Pro Se Pilot Examination Unit. The Pro Se Pilot Examination Unit is comprised of experienced examiners from all scientific disciplines, who have received training specific to issues most often encountered by pro se applicants. The examiners communicate with the USPTO's pro se applicants by providing customer support, answering general patent-related questions via a toll-free number, email, or a walk-in service, and spearheading the development of training materials on the intricacies of filing a patent application. For further details on this pilot, see http://www.uspto.gov/blog/director/entry/uspto_establishes_special_examination_unit.

Eighth, the USPTO has provided, in addition to its numerous call centers, such as the Inventors Assistance Center and Application Assistance Unit, a dedicated customer service America Invents Act (AIA) Contact Center and HELP-AIA hotline, to assist in navigating the America Invents Act, including the new legal provisions and rules regarding inventor's oath or declarations, supplemental examination, preissuance submissions, citation of patent owner claim scope statements, post grant reviews, inter partes reviews, and the transitional program for covered business methods. This hotline implements the concept of guided assistance in which the initial USPTO operator stays with the caller throughout the call until the question is resolved rather than employ the often typical paradigm where the operator routes the call to a call center staffer. By using guided assistance for the AIA Contact Center, the USPTO aims to give callers a “one-stop-shopping” experience and eliminate the frustration that often occurs with call centers where a call may be routed several times before the caller reaches a staffer knowledgeable on the subject of the question.

Ninth, the USPTO is exploring the use of crowdsourcing under a White House Executive Action to leverage the knowledge of those in the technical and scientific community to uncover hard-to-find prior art. The USPTO is currently investigating, through partnership with the public, the most effective means of employing crowdsourcing to obtain such art. At the same time, the USPTO is working to improve the preissuance submissions process through which third parties submit patents, published patent applications, or other printed publications of potential relevance to the examination of a particular published application. In particular, the agency has improved the electronic user interface for making a submission to increase the volume of these submissions and make it easier for an examiner to ascertain the relevance of the art contained in the submission. More information on crowdsourcing and preissuance submissions may be found at http://www.uspto.gov/patents/init_events/executive_actions.jsp#heading-6.

Tenth, as mentioned earlier, the USPTO measures and reports a Quality Composite Metric composed of seven factors: (1) the final disposition review; (2) the in-process review; (3) the first action on the merits (FAOM) search review; (4) the complete FAOM review; (5) the external quality survey; (6) the internal quality survey; and (7) the quality index report. To facilitate an understanding of these metrics, the USPTO has developed two brief videos and two documents explaining the Quality Composite Metric, along with the Metric scores. These videos and explanatory documents are available at http://www.uspto.gov/patents/init_events/Patent-Quality-Initiative.jsp.

Lastly, the Patents End-to-End Program (PE2E) sets forth a new way of processing patent applications by providing a single online environment to manage examination activities and the work done across multiple systems. Among other things, PE2E aims to reduce the number of manual tasks required by examiners to access and coordinate their systems so that their focus can remain on the essential task of performing high-quality examination. Further, as part of PE2E, the USPTO is investigating the design and implementation of an improved notification system that would provide additional prosecution-related alerts to patent applicants in real-time.

New Quality Proposals

Beyond the existing quality improvements, the USPTO seeks to make additional enhancements and, to start, has developed six proposals for the public's consideration and feedback. We recognize that enhancing patent quality will require long-term and sustained efforts. These six proposals are meant to renew the conversation about this very important USPTO priority. We also intend that our conversation with the public will not end after this document or upcoming Quality Summit, but instead continue well into the future through a variety of fora.

At this time, the USPTO seeks to have a discussion with the public about targeting the most desirable proposals and modifying and/or fine-tuning those proposals to maximize the benefit to the patent system. The USPTO also welcomes the public's input on other programs or initiatives not reflected in the proposals that the public believes may enhance patent quality. Recognizing that USPTO time and resources are limited and must be balanced to support many efforts simultaneously, the USPTO welcomes input on the prioritization of these proposals.

The USPTO invites the public to discuss these proposals and the information above by sending written comments in response to this document and/or by attending the USPTO Quality Summit. Following the Quality Summit and the receipt of comments to this document, the USPTO plans to continue its engagement about these proposals through a series of additional events after making refinements, as needed, to the proposals based upon the initial public feedback. The USPTO anticipates hosting future events in locations across the country to solicit input about the proposals and their operation before implementation. Through such continued engagement with the public, the USPTO can take the correct next steps towards improving the quality of patents issued.

The USPTO's six proposals for enhanced patent quality are summarized in the table below, followed by a discussion of each proposal for the public's consideration and comment.

Pillar | Title of proposal
1: Excellence in work products | 1. Applicant Requests for Prosecution Review of Selected Applications
| 2. Automated Pre-Examination Search
| 3. Clarity of the Record
2: Excellence in measuring patent quality | 4. Review of and Improvements to Quality Metrics
3: Excellence in customer service | 5. Review of Current Compact Prosecution Model and the Effect on Quality
| 6. In-Person Interview Capability with All Examiners

Proposal 1 Under Pillar 1: Applicant Requests for Prosecution Review of Selected Applications

The Office of Patent Quality Assurance (OPQA) conducts reviews of randomly selected Office actions from examiners. The USPTO proposes a mechanism for an applicant to request OPQA prosecution review of a particular application where the applicant believes that the application contains an issue that would benefit from further review. An applicant would identify the application by serial number, which would then be placed into a pool of applications for selection by OPQA for review. Through this process, the applicant would be able to bring issues to the attention of OPQA so that the Office can analyze the data from the reviews to identify trends and challenges to better inform future training and improvements to examination process.

Proposal 2 Under Pillar 1: Automated Pre-Examination Search

The USPTO is continuously looking into better ways to get the best prior art in front of an examiner as soon as possible in the examination process. One way this might be done is by an automated pre-examination search. Currently, before an examiner begins substantive examination, the examiner may request, at his/her discretion, that the USPTO's Scientific and Technical Information Center (STIC) perform an automated pre-examination search. To do so, STIC uses a computerized linguistic tool, called the Patent Linguistic Utility Service (PLUS), which includes an algorithm to analyze an application for the presence of frequently-used terms. STIC then searches a database of prior art limited to U.S. patents and U.S. patent application publications for references containing those terms to generate a list of possible references for the examiner's consideration with the frequently-used terms highlighted. With these references in hand as a starting point, the examiner is positioned to begin substantive examination, which includes their own search of the prior art done based upon a review of the specification and actual claim language (as opposed to mere frequently-used terms).

Given that computerized searching algorithms and database technologies have advanced significantly in recent years, the USPTO is seeking input on new tools that might be useful to conduct a pre-examination search. For instance, the new tool might utilize a custom extraction routine that enables keyword, stemming, concept-semantic, and relational word searching capabilities. The USPTO's current pre-examination search tool PLUS does not possess these functionalities. Likewise, the new tool might employ more modern natural language search queries, which PLUS also cannot do.

Proposal 3 Under Pillar 1: Clarity of the Record

The USPTO recognizes that, in order for the patent system to fulfill its critical role in promoting innovation, issued patents must not only fully comply with all statutory requirements, but also contain an Official record that is unambiguous and accurate. Such a complete record provides patent boundaries that are clearly defined to the benefit of the patent owner, the courts, third-parties, and the public at large, giving inventors and investors the confidence to take the necessary risks to launch products and start businesses, and the public the benefit of knowing the precise boundaries of an exclusionary right. The USPTO is actively pursuing further measures and initiatives for enhancing the clarity and completeness of all aspects of the Official record during prosecution of an application. The USPTO is seeking to initiate a discussion to identify procedures that could be made part of standard examination practices to improve the clarity of the prosecution record.

As an example of the USPTO's current efforts to improve the clarity of the Official record, examiners have completed five training modules on functional claiming under 35 U.S.C. 112(f). This training covers identifying 112(f) limitations, interpreting those limitations under the broadest reasonable interpretation standard, making the record clear as to the presence and treatment of 112(f) type claims, and evaluating 112(f) limitations in software-related claims for definiteness, plain and customary meaning of terms, and treating claims as a whole. Furthermore, the USPTO is providing training modules covering other statutory requirements under 35 U.S.C. 112(a) and 112(b) and providing additional training to examiners on identifying compliance to 35 U.S.C. 112 in continuation applications. A list of upcoming training modules can be found at http://www.uspto.gov/patents/init_events/executive_actions.jsp.

The USPTO seeks the assistance of the public in identifying procedures to enhance the clarity and completeness of the Official record during prosecution of an application. Any and all ideas for such procedures are invited for discussion. Exemplary procedures under consideration include:

• Making claim construction explicit in the record, including the scope of claim terms, claim preambles, and functionally defined clauses (e.g., wherein clauses).

• Further detail in the recordation of interviews, pre-appeal conference decisions, and appeal conferences, including identifying which arguments presented in the interview overcome individual rejections of record.

• Where a statement of the reasons for allowance is necessary, providing a more detailed summary of the reasons for allowing a claim; for example, identifying the amendment, argument, or evidence that overcomes a rejection of record, so as to clearly communicate to the public the examiner's reasons why the claimed invention is patentable.

Proposal 4 Under Pillar 2: Review of and Improvements to Quality Metrics

The USPTO proposes to re-assess the effectiveness of the Quality Composite Metric and welcomes stakeholder guidance on the effectiveness of the current Metric, as well as ways to improve it. As noted earlier, details about the Quality Composite Metric are available at http://www.uspto.gov/patents/init_events/Patent-Quality-Initiative.jsp. By reevaluating the Quality Composite Metric, the USPTO aims to increase the effectiveness, transparency, clarity, and simplicity of USPTO review, employ a system that measures both errors by commission and errors by omission, and obtain examination metrics that are specifically tied to procedures for improving performance based on identified trends. Additionally, the USPTO proposes to re-evaluate its current ways of measuring the impact of training provided to examiners to enhance the effectiveness of examiner training.

Proposal 5 Under Pillar 3: Review of the Current Compact Prosecution Model and the Effect on Quality

In an effort to resolve outstanding issues in an application before prosecution on the merits closes, the USPTO seeks assistance from the public on determining whether the current compact prosecution model should be modified. Such revisions to the compact model seek to enhance both the overall pendency and the quality of the prosecution. Under normal compact prosecution practice, an applicant typically receives only a single non-final Office action. The USPTO seeks ideas for proactive alternatives to Request for Continued Examination filings or appeals to the Patent Trial and Appeal Board. The goal of such an alternative is to increase the quality of the communication between applicant and examiner during prosecution, thereby focusing the prosecution on resolution of patentability issues rather than on concluding the prosecution. Such an increased emphasis on the resolution of any and all patentability issues during prosecution may enhance the quality of the patents that issue.

For example, the USPTO seeks feedback on the desirability of a procedure by which an applicant might pay for entry of an additional response that may or may not require an examiner interview to further prosecution in an application before a final rejection is issued, thereby providing for at least two non-final Office actions in an application. An additional response, either with or without an interview, may give an applicant the opportunity to present arguments or amendments to overcome outstanding rejections, which may result in a more efficient and expeditious disposal of the application.

Proposal 6 Under Pillar 3: In-Person Interview Capability With All Examiners

Effective interviews between the examiner and the applicant lead to the issue of better quality patents and to greater customer satisfaction with the prosecution. Currently, in-person interviews are conducted at the USPTO Headquarters in Alexandria, VA. Interviews may also be conducted at the fully operational USPTO Satellite Offices (currently, Detroit and Denver) for those examiners stationed at those Offices and for those examiners hoteling within the local commuting areas of those Offices (e.g., within 50 miles). Although recent improvements USPTO collaboration tools permit applicant interviews via video, some applicants nevertheless prefer in-person interviews. The USPTO thus proposes that in-person interviews could be conducted at additional locations, such as at regional libraries across the country that have partnered with the USPTO to serve as repositories for patent materials, for example, the Boston Public Library, Chicago Public Library, and Los Angeles Public Library. Upon a request for an in-person interview with a specific examiner, the USPTO would designate an acceptable remote interview location nearest to that examiner's official duty station and provide arrangements for that examiner to travel to the interview location and conduct the interview. This proposal would ensure the availability of in-person interviews for all applications as the USPTO refines its telework program and leverages other USPTO affiliated locations. This proposal would have cost implications on the USPTO, and the USPTO welcomes a discussion on the public's desire and willingness to pay for such additional service.

Quality Summit

In addition to seeking written comments from the public and further input from our employees, the USPTO is planning to hold a two-day Quality Summit on March 25 and 26, 2015 in the Madison Building, USPTO Headquarters, in Alexandria, Virginia. The Quality Summit is an important opportunity for the public to voice their feedback and ideas about quality to ensure the most efficient prosecution processes and the issuance of the highest quality patents. Likewise, the USPTO intends to utilize significant portions of the Summit to work with the public to brainstorm additional options to enhance patent quality.

The agenda for the morning session of the first day of the Quality Summit includes stakeholder presentations and a panel discussion on “Perspectives on the Importance of Quality,” as well as a discussion about “Key Aspects of Quality.” The afternoon session of the first day will be dedicated to the first pillar of quality, “Providing the Best Possible Work Products,” by focusing on prosecution and examination improvements. The agenda for the second day of the Quality Summit will be dedicated to the second and third pillars of quality, with the morning session covering “Establishing Appropriate Quality Metrics” and the afternoon session directed to “Improving the Customer Experience and Providing Excellent Customer Service.” When discussing the three pillars of the Patent Quality Initiative and the proposals, the USPTO intends to interact and listen to the public through both large group discussions and small group brainstorming sessions. During these discussions, the USPTO welcomes an in-depth, specific, and expansive conversation about its proposals, as well as any and all aspects of enhanced quality that the public would like to raise. A more detailed agenda follows:

Time | Topic
DAY 1: MORNING SESSION INTRODUCTION TO THE ENHANCED QUALITY INITIATIVE AND DISCUSSION OF THE IMPORTANCE OF QUALITY
8:30 to 8:40 am | Welcome.
8:40 to 9:00 am | Opening Remarks.
9:00 to 10:30 am | Perspectives on the Importance of Quality Speakers to include corporate counsel, private practitioners, academics, economists, and jurists.
10:30 to 10:45 am | Break.
10:45 to 12:00 pm | All Audience Discussion of Key Aspects of Quality
12:00 to 1:00 pm | Break for lunch.
DAY 1: AFTERNOON SESSION PROVIDING THE BEST POSSIBLE WORK PRODUCTS
1:00 to 1:30 pm | Pillar 1: Overview of Currently Available Improvements.
1:30 to 1:45 pm | Introduction of Proposals 1 and 2.
1:45 to 2:30 pm | All Audience Discussion of Proposals 1 and 2.
2:30 to 2:45 pm | Break.
2:45 to 4:45 pm | Brainstorming for Pillar 1 in General and Proposals 1 and 2 Small group break-out session to be followed by sharing of ideas with all audience.
4:45 to 5 pm | Concluding Remarks.
DAY 2: MORNING SESSION ESTABLISHING APPROPRIATE QUALITY METRICS
8:30 to 8:45 am | Welcome.
8:45 to 9:15 am | Pillars 1 and 2: Overview of Currently Available Improvements and the Quality Composite.
9:15 to 9:30 am | Introduction of Proposals 3 and 4.
9:30 to 10:15 am | All Audience Discussion of Proposals 3 and 4.
10:15 to 10:30 am | Break.
10:30 to 12:30 pm | Brainstorming for Pillars 1 and 2 in General and Proposals 3 and 4 Small group break-out session to be followed by sharing of ideas with all audience.
12:30 to 1:30 pm | Break for lunch.
DAY 2: AFTERNOON SESSION IMPROVING THE CUSTOMER EXPERIENCE AND PROVIDING EXCELLENT CUSTOMER SERVICE
1:30 to 2:00 pm | Pillar 3: Overview of Currently Available Improvements.
2:00 to 2:15 pm | Introduction of Proposals 5 and 6.
2:15 to 3:00 pm | All Audience Discussion of Proposals 5 and 6.
3:00 to 3:15 pm | Break.
3:15 to 5:15 pm | Brainstorming for Pillar 3 in General and Proposals 5 and 6 Small group break-out session to be followed by sharing of ideas with all audience.
5:15 to 5:30 pm | Concluding Remarks and Next Steps.

Date: February 3, 2015.
Michelle K. Lee,
Deputy Under Secretary of Commerce for Intellectual Property and Deputy Director of the United States Patent and Trademark Office.

[FR Doc. 2015-02398 Filed 2-4-15; 8:45 am]

BILLING CODE 3510-16-P